DEPARTMENT OF LABOR

Employment and Training Administration

[TA-W-59,685]

Laidlaw Corporation Now Known as Oldlaw Corporation Metropolis Division, Metropolis, IL; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on July 25, 2006, applicable to workers of Laidlaw Corporation, Metropolis Division, Metropolis, Illinois. The notice was published in the Federal Register on August 14, 2006 (71 FR 46518).

At the request of the State agency, the Department reviewed the certification for workers of the subject firm. The workers are engaged in the production of wire clothes hangers and drycleaning chemicals.

New information shows that as of May 1, 2006, Laidlaw Corporation is now known as Oldlaw Corporation following a partial purchase of the subject firm's assets by a group of investors. Workers separated from employment at the subject firm had their wages reported under a separate unemployment insurance (UI) tax account for Oldlaw Corporation, Metropolis Division.

Accordingly, the Department is amending this certification to properly reflect this matter.

The intent of the Department's certification is to include all workers of Laidlaw Corporation, now known as Oldlaw Corporation, Metropolis Division, who were adversely affected by increased customer imports.

The amended notice applicable to TA-W-59,685 is hereby issued as follows:

All workers of Laidlaw Corporation, now known as Oldlaw Corporation, Metropolis Division, Metropolis, Illinois, who became totally or partially separated from employment on or after July 7, 2005, through July 25, 2008, are eligible to apply for adjustment assistance under Section 223 of the Trade Act of 1974, and are also eligible to apply for alternative trade adjustment assistance under Section 246 of the Trade Act of 1974.

Signed at Washington, DC this 7th day of August 2007.
Linda G. Poole,
Certifying Officer, Division of Trade Adjustment Assistance.

[FR Doc. E7-15849 Filed 8-13-07; 8:45 am]

BILLING CODE 4510-FN-P